DEPARTMENT OF TRANSPORTATION

Federal Aviation Administration

Aircraft Certification Service (AIR) Reorganization/Merger Announcement

AGENCY: Federal Aviation Administration (FAA), DOT.

ACTION: Notice.

SUMMARY: This action gives notice to the American public and aviation industry of the FAA's Aviation Safety Office's (AVS), Aircraft Certification Service (AIR) reorganization/merger. The Aircraft Engineering Division (AIR-100) and Production and Airworthiness Division (AIR-200) are merging to become the Design, Manufacturing, and Airworthiness Division, AIR-100. The new AIR-100 Division is divided into five branches, Certification and Procedures Branch (AIR-110), Technical and Administrative Support Branch (AIR-120), Systems and Equipment Standards Branch (AIR-130), Operational Oversight Policy Branch (AIR-140), and System Performance and Development Branch (AIR-150).

DATES: Effective date, February 9, 2014.

Responsibilities: The current Aircraft Engineering Division responsibilities include developing and standardizing regulations, national directives, policy, procedures, and advisory material for continued operational safety, type certification, design approval, and for authorization and oversight of Designated Representatives of the Administrator for civil aeronautical products. The current Production and Airworthiness Division responsibilities include developing and issuing regulations, national directives, policy, and procedures for continued operational safety, production and airworthiness certification and approvals, and certain Designated Representatives of the Administrator. Those combined responsibilities will remain intact in the newly established Design, Manufacturing, and Airworthiness Division.

Policy Documents: All Aircraft Engineering Division and Production and Airworthiness Division previously issued Advisory Circulars, Orders, Notices, and guidance will remain in effect until revised, changed, or deleted. The documents will be reviewed and modified according to priority.

Additional Information: Please contact the Engineering, Manufacturing, and Airworthiness Division (AIR-100) by phone on 202-285-6348 or by email at 9-AVS-AIR100@faa.gov. For a further breakdown of the Division and physical addresses view http://www.faa.gov/about/office_org/headquarters_offices/avs/offices/air/hq/.

Issued in Washington, DC, on January 23, 2014.
Frank P. Paskiewicz,
Deputy Director, Aircraft Certification Service.

[FR Doc. 2014-01718 Filed 1-28-14; 8:45 am]

BILLING CODE 4910-13-P